DEPARTMENT OF ENERGY

Federal Energy Regulatory Commission

Combined Notice of Filings

Take notice that the Commission has received the following Natural Gas Pipeline Rate and Refund Report filings:

Filings Instituting Proceedings

Docket Numbers: RP13-94-000.

Applicants: Trailblazer Pipeline Company LLC.

Description: Trailblazer Pipeline Company LLC submits Information Requested in Compliance with the October 31, 2012 Commission Order.

Filed Date: 11/15/12.

Accession Number: 20121115-5175.

Comments Due: 5 p.m. ET 11/27/12.

Docket Numbers: RP13-304-000.

Applicants: Northern Natural Gas Company.

Description: 20121130 CenterPoint and MUD Non-conforming to be effective 1/1/2013.

Filed Date: 11/21/12.

Accession Number: 20121121-5049.

Comments Due: 5 p.m. ET 12/3/12.

Docket Numbers: RP13-305-000.

Applicants: Golden Triangle Storage, Inc.

Description: Order No. 587-V Revised Compliance Filing to be effective 12/1/2012.

Filed Date: 11/21/12.

Accession Number: 20121121-5073.

Comments Due: 5 p.m. ET 12/3/12.

Docket Numbers: RP13-306-000.

Applicants: Ryckman Creek Resources, LLC.

Description: Compliance Filing Response to 110812 Comm Ltr Order to be effective 12/1/2012.

Filed Date: 11/21/12.

Accession Number: 20121121-5112.

Comments Due: 5 p.m. ET 12/3/12.

Docket Numbers: RP13-307-000.

Applicants: Atmos Energy Corporation.

Description: Petition for Temporary Waivers of Atmos Energy Corporation.

Filed Date: 11/21/12.

Accession Number: 20121121-5224.

Comments Due: 5 p.m. ET 12/3/12.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP13-62-001.

Applicants: Dominion Cove Point LNG, LP.

Description: DCP—Compliance Filing—NAESB Version 2.0 to be effective 12/1/2012.

Filed Date: 11/21/12.

Accession Number: 20121121-5109.

Comments Due: 5 p.m. ET 12/3/12.

Docket Numbers: RP13-81-001.

Applicants: Caledonia Energy Partners, L.L.C.

Description: Caledonia Change to FERC Gas Tariff to Comply with FERC Order No. 587-V to be effective 12/1/2012.

Filed Date: 11/21/12.

Accession Number: 20121121-5187.

Comments Due: 5 p.m. ET 12/3/12.

Docket Numbers: RP13-98-001.

Applicants: East Cheyenne Gas Storage, LLC.

Description: East Cheyenne November 21 Compliance Filing to be effective 12/1/2012.

Filed Date: 11/21/12.

Accession Number: 20121121-5100.

Comments Due: 5 p.m. ET 12/3/12.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: November 23, 2012.
Nathaniel J. Davis, Sr.,
Deputy Secretary.

[FR Doc. 2012-28961 Filed 11-29-12; 8:45 am]

BILLING CODE 6717-01-P